FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 962. Interested parties may submit comments on an agreement to the Secretary, Federal Maritime Commission, Washington, DC 20573, within 10 days of the date this notice appears in the Federal Register.

Agreement No.: 201135.

Title: SSAT (Oakland) Agreement.

Parties: Yusen Terminals Inc., SSA Terminals, LLC, SSA Terminals (Oakland), LLC, SSA Pacific Terminals, Inc.

Synopsis: The agreement authorizes the parties to discuss, agree, organize, and operate as a marine terminal operator at a marine terminal facility in Alameda County, California.

Dated: May 13, 2002.
By Order of the Federal Maritime Commission.
Bryant L. VanBrakle,
Secretary.

[FR Doc. 02-12320 Filed 5-16-02; 8:45 am]

BILLING CODE 6730-01-P